DEPARTMENT OF TRANSPORTATION

Federal Highway Administration

Final Environmental Impact Statement; Douglas County, CO

AGENCY: Federal Highway Administration (FHWA), DOT.

ACTION: Notice of availability.

SUMMARY: In compliance with the National Environmental Policy Act of 1969, the FHWA, in cooperation with the Colorado Department of Transportation (CDOT), have prepared a Final Environmental Impact Statement (EIS) for proposed transportation improvements in the South I-25 Corridor and US 85 Corridor of the Denver, Colorado metropolitan area. The project is within Douglas County. The Final EIS identifies the Preferred Alternative and the Other Alternative and their associated environmental impacts. Interested citizens are invited to review the Final EIS and submit comments. Copies of the Final EIS may be obtained by telephoning or writing the contact person list below under Addresses. Public reading copies of the Final EIS are available at the locations listed under Supplementary Information.

DATES: A 30-day public review period will begin on May 11, 2001 and conclude on June 11, 2001. Written comments on the alternatives and impacts to be considered must be received by CDOT by June 11, 2001. Two public hearings to receive oral comments on the Final EIS will be held in Castle Rock and Sedalia.

ADDRESSES: Written comments on the Final EIS should be addressed to Wes Goff, Project Manager, Colorado Department of Transportation, South I-25 Corridor and US 85 Corridor, 18500 East Colfax Avenue, Aurora, CO 80011. Requests for a copy of the Final EIS may be addressed to Ms. Wes Goff at the address above. Please see Supplementary Information section for a listing of the available documents and formats in which they may be obtained. Copies of the Final EIS are also available for public inspection and review. See Supplementary Information section for locations.

FOR FURTHER INFORMATION CONTACT: To request copies of the Final EIS or for additional information, contact: Mr. Scott Sands, FHWA, Colorado Division, 555 Zang Street, Room 250, Lakewood, CO, 80228, Telephone: (303) 969-6730 extension 362; or Mr. Wes Goff, Colorado Department of Transportation, Region 1, 18500 East Colfax Avenue, Aurora, CO 80011, Telephone: (303) 757-9647.

SUPPLEMENTARY INFORMATION:

Hearing Dates and Locations:

Tuesday, June 5, 2001: Louviers Village Club House (5 p.m.-7:30 p.m.)

Thursday, June 7, 2001: Douglas County Building (5 p.m.-7:30 p.m.)

Copies of the Final EIS are available in hard copy format for public inspection at:

• City of Lone Tree, 6399 S. Fiddlers Green Cr., Ste. 102, Greenwood Village, CO 80111, 303-779-4525

• CDOT Arapahoe Residency, 359 Inverness Drive South, Suite K, Englewood, CO 80112, 303-790-1020

• CDOT Office of Environmental Services, 1325 South Colorado Boulevard, Suite B400, Denver, CO 80222, 303-757-9259

• CDOT Region 1, 18500 E Colfax Avenue, Aurora, CO 80010, 303-757-9371

• Douglas County Planning Department, 100 Third Street, Castle Rock, CO 80104, 303-660-7490

• Federal Highway Administration, 555 Zang Street, Room 250, Lakewood, Co 80228, 303-969-6730

• Highlands Ranch Library, 48 West Springer Drive, Littleton, CO 80129-2314, 303-791-7703

• Lone Tree Library, 8827 Lone Tree Parkway, Lone Tree, CO 80124-8961, 303-799-4446

• Louviers Library, 7885 Louviers Boulevard, Louviers, CO 80131-9900, 303-791-7323

• Parker Library, 10851 South Crossroads Drive, Parker, CO 80134-9081, 303-841-3503

• PBS&J, 5500 Greenwood Plaza Blvd., Suite 150, Englewood, CO 80111, 303-221-7275

• Philip S. Miller Library, 961 S Plum Creek Road, Castle Rock, CO 80104, 303-688-5157

• Town of Castle Rock, 100 Wilcox Street, Castle Rock, CO 80104

• The document is also available on the project Website: www.southi25.com

Background

This Final EIS provides a detailed evaluation of the South I-25 Corridor and US 85 Corridor improvement project. The project corridors both lie within Douglas County, Colorado. The I-25 Corridor extends from C-470 at approximate milepost 195 to the southern limit of Castle Rock at approximate milepost 178 and the US 85 Corridor extends from C-470 at approximate milepost 200 to Castle Rock at approximate milepost 184. This Final EIS includes an examination of the purpose and need, alternatives under consideration, travel demand, affected environment, environmental consequences, and mitigation measures as a result of the improvements under consideration. Three alternatives, including the No-Action Alternatives, are considered for improvements.

The FHWA, the CDOT, and other local agencies invite interested individuals, organizations, and Federal, State, and local agencies to comment on the evaluated alternatives and associated social, economic, or environmental impacts related to the alternatives.

Edrie Vinson,
Environmental Program Manager, Federal Highway Administration, Lakewood, Colorado.

[FR Doc. 01-12344 Filed 5-15-01; 8:45 am]

BILLING CODE 4910-22-M